DEPARTMENT OF EDUCATION

RIN 1830-ZA05

Community Technology Centers Program; Proposed Requirements, Priorities, and Selection Criteria

AGENCY: Office of Vocational and Adult Education, Department of Education.

ACTION: Notice.

SUMMARY: The Acting Assistant Secretary for Vocational and Adult Education proposes requirements, priorities, and selection criteria under the Community Technology Centers (CTC) Program. These proposed requirements, priorities, and selection criteria clarify the funding ranges and matching requirements for this program. The proposed priorities and selection criteria are intended to strengthen the quality of applications and provide greater understanding of the Department's intent regarding the direction of this program. The Assistant Secretary may use these requirements, priorities, and selection criteria for competitions in fiscal year (FY) 2004 and later years.

DATES: We must receive your comments on or before March 3, 2004.

ADDRESSES: Address all comments about these proposed requirements, priorities, and selection criteria to Karen Holliday, U.S. Department of Education, OVAE, MES room 5520, 400 Maryland Avenue, SW., Washington, DC 20202-7100. If you prefer to send your comments through the Internet, use the following address: karen.holliday@ed.gov. You must include the phrase “CTC Comments” in the subject line of your electronic message.

FOR FURTHER INFORMATION CONTACT: Karen Holliday, Telephone (202) 358-3339.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed requirements, priorities, and selection criteria. To ensure that your comments have maximum effect in developing the notice of final requirements, priorities and selection criteria, we urge you to identify clearly the specific requirement, priority, or selection criterion that each comment addresses.

We invite you to assist us in complying with the specific requirements of Executive Order 12866 and its overall requirement of reducing regulatory burden that might result from these proposed requirements, priorities, and selection criteria. Please let us know of any further opportunities we should take to reduce potential costs or increase potential benefits while preserving the effective and efficient administration of the program.

During and after the comment period, you may inspect all public comments about these proposed requirements, priorities, and selection criteria at 330 C Street, SW., room 5520, Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for these proposed requirements, priorities, and selection criteria. If you want to schedule an appointment for this type of aid, please contact the person listed under FOR FURTHER INFORMATION CONTACT.

Background

The purpose of the CTC Program is to assist eligible applicants to create or expand community technology centers that provide disadvantaged residents of economically distressed urban and rural communities with access to information technology and related training. Eligible applicants are community-based organizations (including faith-based organizations), State and local educational agencies (LEAs) (including charter schools that are LEAs), institutions of higher education, and other entities, such as foundations, libraries, museums, public and private nonprofit organizations, and for-profit businesses, or consortia thereof. To be eligible, an applicant must also have the capacity to significantly expand access to computers and related services for disadvantaged residents of economically distressed urban and rural communities who would otherwise be denied such access.

The CTC program competitions the Department conducted in FY 2003 gave absolute priority to applicants seeking to improve the academic achievement of low-achieving high school students while continuing to provide a community technology center for all members of their community. Grant recipients were required to meet this priority as they developed and implemented their plans to create or expand community technology centers for increasing access to information technology and related training for disadvantaged residents of distressed urban or rural communities, and to evaluate the effectiveness of their projects. Specifically, we permitted grantees to use funds to provide services and activities that use technology to improve academic achievement, such as academic enrichment activities for children and youth, career development, adult education, and English language instruction for individuals with limited English proficiency. Other authorized activities included, among other things, support for personnel, equipment, networking capabilities, and other infrastructure costs. We did not permit grantees to use funds for construction, food, stipends, childcare, or security personnel.

The Department held two competitions with FY 2003 funds. The first competition used 75 percent of available funds and made grants to the highest-ranking applicants that met the absolute priorities specified for the competition. The second competition used 25 percent of available funds for the highest-ranking novice applicants that met similar absolute priorities.

For FY 2004, the Department proposes requirements, priorities, and selection criteria similar to those established in FY 2003. Yet we are clarifying some of the requirements, priorities, and selection criteria to refine the application process under the CTC program, while continuing to support and create local technology programs that are among the strongest in the nation.

Discussion of Proposed Requirements, Priorities, and Selection Criteria

We will announce the final requirements, priorities, and selection criteria in a notice in the Federal Register. We will determine the final requirements, priorities, and selection criteria after considering responses to this notice and other information available to the Department. This notice does not preclude us from proposing or funding additional requirements, priorities, or selection criteria, subject to meeting applicable rulemaking requirements.

Targeted Applicants

We held two competitions with FY 2003 funds for the CTC program. The first competition used 75 percent of available funds and made grants to the highest-ranking applicants that met the absolute priorities, and the second competition used 25 percent of available funds for the highest-ranking novice applicants that met similar absolute priorities.

For FY 2004, we are proposing that one combined competition be conducted for both general and novice applicants, using the same priorities and selection criteria. The Department will rank and fund the two groups separately. At least seventy-five percent of the funds will be set aside for general applicants and up to twenty-five percent will be set aside for novice applicants.

Rationale

The Department supports the idea that novice applicants be given special consideration when applying for discretionary grant funds. Last year, we pursued that strategy by setting aside 25 percent of program funds for novice applications. We hope that continuing this practice will yield a similar result this year.

Range of Awards

The Department proposes to establish $250,000 as the minimum award and $500,000 as the maximum award for FY 2004, and proposes that no grant application will be considered for funding if it requests an award amount outside the funding range of $250,000 to $500,000.

Rationale

In our work with CTC program grantees since 1999, we have acquired information to support the idea that programs must be of at least a moderate funding amount in order to significantly impact increased access to technology at the local level. The Department believes that the minimum award threshold, coupled with the applicant's mandatory match, ensures the applicant's ability to be effective. The maximum threshold is necessary to ensure that the Department is able to fund a significant number of grantees, and to promote access to technology in a number of geographic areas.

Matching Funds Requirement

Pursuant to Section 5512(c) of the Elementary and Secondary Education Act of 1965 (ESEA), as amended by the No Child Left Behind Act of 2001 (NCLB), Federal funds may not be used to pay for more than 50 percent of total CTC project costs.

The statute requires that to receive a grant award under the CTC competition, each applicant must furnish from non-Federal sources at least 50 percent of its total project costs. Applicants may satisfy this requirement in cash or in kind, fairly evaluated, including services. Accordingly, we are proposing to clarify this requirement as follows: each applicant must provide a dollar-for-dollar match of the amount requested from the Federal Government. An example of an allowable match would be a situation in which an applicant requested $250,000 in Federal funds (the mandatory minimum request). In that situation, the applicant would be requested to furnish at least $250,000 from non-Federal funds in cash or in kind, fairly evaluated, resulting in a total project cost of $500,000.

Rationale

Clarification of the matching requirement is necessary to eliminate the possibility of any confusion among applicants.

Discussion of Proposed Priorities

Note: This notice does not solicit applications. In any year in which we choose to use one or more of these proposed priorities, we invite applications through a notice in the Federal Register.

Priorities

When inviting applications we designate each priority as absolute, competitive preference, or invitational. The effect of each type of priority follows:

Absolute Priority

Under an absolute priority, we consider only applications that meet the priority (34 CFR 75.105(c)(3)).

Competitive Preference Priority

Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational Priority

Under an invitational priority, we are particularly interested in applications that meet the invitational priority. However, we do not give an application that meets the priority a competitive or absolute preference over other applications (34 CFR 75.105(c)(1)).

We propose to establish the following priorities for the CTC general competition:

Proposed Priority 1

We propose a priority for projects that include a partnership with a community-based organization and a local educational agency (or school, which may be a charter school). To meet the priority, an applicant must clearly identify the partnering agencies and include a detailed plan of their working relationship, including a project budget that reflects fund disbursements to the various partnering agencies. Thus, the Secretary would give priority to projects in which the delivery of instructional services includes:

1. A community-based organization (CBO), which may include a faith-based organization, and

2. A local educational agency (LEA) (or school, including private, non-profit schools).

A CBO is not required to submit a joint application with an LEA or school when applying for funds; however, the proposed project must deliver the educational services in partnership with an LEA (or school).

Likewise, an LEA (or school) is not required to submit a joint application with a CBO when applying for funds; however, the proposed project must deliver the educational services in partnership with a CBO.

Applicants that are neither CBOs nor LEAs must enter into a partnership that includes a CBO and an LEA (or school) in the delivery of educational services.

Rationale

The Secretary has determined that the participation of both CBOs and LEAs (or schools) is critical to the success of CTC projects. Many academic support programs for adolescents report that securing and maintaining a high level of student participation can be challenging. Involving CBOs in service delivery will help projects better master this challenge, such as by providing expanded outreach and support to students, joint programming, or alternative service sites that are in or near the neighborhoods where students live. Community-based and faith-based partners bring other important resources to the table as well, such as assistance in recruiting staff and volunteers. LEAs (or schools) also are essential partners. Their involvement is needed to identify the students who are most in need of academic support and to ensure that the project's curriculum, assessment, and instructional practices are consistent with those of the schools the students attend.

Note: Applicants should bear in mind that although LEAs are eligible under this program, individual public schools are not eligible applicants.

Proposed Priority 2

We propose a priority pursuant to which applicants would meet the following criteria:

Applicants must state whether they are proposing a local or State project. A local project must include one or more CTCs; a State project must include two or more CTCs. In addition, the project must be carried out by or in partnership with one or more LEAs or secondary schools that provide supplementary instruction in the core academic subjects of reading or language arts, or mathematics, to low-achieving secondary school students. Projects must serve students who are entering or enrolled in grades 9 through 12 and who: (1) Have academic skills significantly below grade level, or (2) who have not attained proficiency on State academic assessments as established by NCLB. Supplementary instruction may be delivered before or after school or at other times when school is not in session. Instruction may also be provided while school is in session, provided that it increases the amount of time students receive instruction in core academic subjects and does not require their removal from class. The instructional strategies used must be based on practices that have proven effective for improving the academic performance of low-achieving students. If these services are not provided directly by an LEA or secondary school, they must be provided in partnership with an LEA or secondary school.

Rationale

We believe that such supplemental instruction is important for the students residing in the geographic areas the CTC program intends to serve. Further, the Department encourages local CBOs and other entities to expand their capacity for becoming supplemental service providers through the effective use of the local CTC.

Proposed Priority 3

We propose a priority to focus CTC activities on adult education and family literacy services.

Under this proposed priority, we would give priority to projects that provide adult education and family literacy activities through technology and the Internet, including adult basic education, adult secondary education, and English literacy instruction.

Rationale

Section 5513(b)(3)(B) of the ESEA provides that funds under this program may be used for CTC activities focusing on adult education and family literacy services. We believe that projects using technology and the Internet to provide adult education are critical to improving adult academic achievement.

Proposed Priority 4

We propose a priority to focus CTC activities on career development and job preparation activities.

Under this proposed priority we would give priority to projects that provide career development and job preparation activities in high-demand occupational areas.

Rationale

Section 5513(b)(3)(C) of the ESEA provides that program funds may be used to provide services relating to career development and job preparation. We believe that career development and job preparation activities in high-demand occupational areas will benefit greatly the students residing in areas that CTC projects serve.

Proposed Selection Criteria

We propose that the following selection criteria be used for this competition:

Need for the Project

In evaluating the need for the proposed project, we consider the extent to which the proposed project will—

(1) Serve students from low-income families;

(2) Serve students entering or enrolled in secondary schools that are among the secondary schools in the State that have the highest numbers or percentages of students who have not achieved proficiency on the State academic assessments required by Title I of ESEA, or who have academic skills in reading or language arts, or mathematics, that are significantly below grade level;

(3) Serve students who have the greatest need for supplementary instruction, as indicated by their scores on State or local standardized assessments in reading or language arts, or mathematics, or some other local measure of performance in reading or language arts, or mathematics; and

(4) Create or expand access to information technology and related training for disadvantaged residents of distressed urban or rural communities.

Quality of the Project Design

In evaluating the quality of the design of the proposed project, we consider the extent to which the proposed project will—

(1) Provide instructional services that will be of sufficient size, scope, and intensity to improve the academic performance of participating students;

(2) Incorporate strategies that have proven effective for improving the academic performance of low-achieving students;

(3) Implement strategies in recruiting and retaining students that have proven effective;

(4) Provide instruction that is aligned with the secondary school curricula of the schools in which the students to be served by the grant are entering or enrolled; and

(5) Provide high-quality, sustained, and intensive professional development for personnel who provide instruction to students.

Quality of the Management Plan

In evaluating the quality of the management plan, we consider the extent to which the proposed project—

(1) Outlines specific, measurable goals, objectives, and outcomes to be achieved by the proposed project;

(2) Assigns responsibility for the accomplishment of project tasks to specific project personnel, and provides timelines for the accomplishment of project tasks;

(3) Requires appropriate and adequate time commitments of the project director and other key personnel to achieve the objectives of the proposed project; and

(4) Includes key project personnel, including the project director and other staff, with appropriate qualifications and relevant training and experience.

Adequacy of Resources

In determining the adequacy of resources for the proposed project, we consider the following factors:

(1) The adequacy of support, including facilities, equipment, supplies, and other resources, from the applicant;

(2) The extent to which a preponderance of project resources will be used for activities designed to improve the academic performance of low-achieving students in reading and/or mathematics;

(3) The extent to which the budget is adequate and costs are reasonable in relation to the objectives and design of the proposed project; and

(4) The potential for continued support of the project after Federal funding ends, including, as appropriate, the demonstrated commitment of appropriate entities to such support.

Quality of the Evaluation

In determining the quality of the evaluation, we consider the extent to which the proposed project—

(1) Includes a plan that utilizes evaluation methods that are feasible and appropriate to the goals and outcomes of the project;

(2) Will regularly examine the progress and outcomes of participating students on a range of appropriate performance measures and has a plan for utilizing such information to improve project activities and instruction;

(3) Will use an independent, external evaluator with the necessary background and technical expertise to assess the performance of the project; and

(4) Effectively demonstrates that the applicant has adopted a rigorous evaluation design.

Executive Order 12866

This notice of proposed requirements, priorities, and selection criteria has been reviewed in accordance with Executive Order 12866. Under the terms of the order, we have assessed the potential costs and benefits of this regulatory action.

The potential costs associated with the notice of proposed requirements, priorities, and selection criteria are those resulting from statutory requirements and those we have determined as necessary for administering this program effectively and efficiently.

In assessing the potential costs and benefits—both quantitative and qualitative—of this notice of proposed requirements, priorities, and selection criteria, we have determined that the benefits of the proposed requirements, priorities, and selection criteria justify the costs.

We have also determined that this regulatory action does not unduly interfere with State, local, and tribal governments in the exercise of their governmental functions.

Summary of Potential Benefits

Elsewhere in this notice we discuss the potential benefits of these proposed requirements, priorities, and selection criteria.

Intergovernmental Review

This program is subject to Executive Order 12372 and the regulations in 34 CFR Part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.341—Community Technology Centers Program)
Program Authority: 20 U.S.C. 7263.
Dated: January 29, 2004.
Susan Sclafani,
Assistant Secretary for Vocational and Adult Education.

[FR Doc. 04-2126 Filed 1-29-04; 1:41 pm]

BILLING CODE 4000-01-P